DEPARTMENT OF JUSTICE

Notice of Lodging of Proposed Consent Decree Under the Clean Air Act

On March 20, 2014, the Department of Justice lodged a proposed consent decree with the United States District Court for the Eastern District of Texas in the lawsuit entitled United States v. Flint Hills Resources Port Arthur, LLC, Civil Action No. 1:14CV169.

In the Complaint, the United States alleges that Flint Hills Resources Port Arthur, LLC (“Flint Hills”) violated, at its chemical plant in Port Arthur, Texas, various provisions of the Clean Air Act, 42 U.S.C. 7401 et seq. relating to the operation of flares, leak detection and repair practices, and benzene waste operations activities.

Under the consent decree, Flint Hills will implement innovative pollution control technologies to reduce emissions of volatile organic compounds (“VOCs”) and hazardous air pollutants from the two main flares and one back-up flare that operate at the Port Arthur facility. Flint Hills will operate systems that will recover and recycle waste gas back into plant processes (i.e., flare gas recovery) and, for waste gas that is flared, Flint Hills will operate numerous monitoring systems and comply with several operating parameters to ensure that the flares adequately combust the gases. Flint Hills also will install “low emissions” valve technology and enhance its work practices relating to detecting and repairing leaks of VOCs from valves, pumps, and other equipment at the Port Arthur facility. Finally, the proposed Consent Decree requires Flint Hills to implement measures to minimize emissions of benzene from wastewater, to perform two community projects at a cost of $2.35 million, and to pay a civil penalty of $350,000.

The publication of this notice opens a period of public comment on the consent decree. Comments should be addressed to the Acting Assistant Attorney General, Environment and Natural Resources Division, and should refer to United States v. Flint Hills Resources Port Arthur, LLC, D.J. Ref. No. 90-5-2-1-10070. All comments must be submitted no later than thirty (30) days after the publication date of this notice. Comments may be submitted either by email or by mail:

To submit comments: | Send them to:
By email | pubcomment-ees.enrd@usdoj.gov.
By mail | Acting Assistant Attorney General, U.S. DOJ—ENRD, P.O. Box 7611, Washington, DC 20044-7611.

During the public comment period, the consent decree may be examined and downloaded at this Department of Justice Web site: http://www.usdoj.gov/enrd/Consent_Decrees.html. We will provide a paper copy of the consent decree upon written request and payment of reproduction costs. Please mail your request and payment to: Consent Decree Library, U.S. DOJ—ENRD, P.O. Box 7611, Washington, DC 20044-7611.

Please enclose a check in the amount of $53.25 (25 cents per page reproduction cost) payable to the United States Treasury.

Thomas P. Carroll,
Assistant Chief, Environmental Enforcement Section, Environment and Natural Resources Division.

[FR Doc. 2014-06513 Filed 3-24-14; 8:45 am]

BILLING CODE 4410-15-P